DEPARTMENT OF DEFENSE

Office of the Secretary

[Docket ID: DoD-2014-OS-0037]

Privacy Act of 1974; System of Records

AGENCY: Office of the Secretary of Defense, DoD.

ACTION: Notice to alter a system of records.

SUMMARY: The Office of the Secretary of Defense proposes to alter a system of records, DWHS E01 DoD, entitled “DoD Federal Docket Management System (DoD FDMS)”, in its inventory of record systems subject to the Privacy Act of 1974, as amended. This system will permit the Department of Defense to identify individuals who have submitted comments in response to DoD rule making documents or notices so that communications or other actions, as appropriate and necessary, can be effected, such as a need to seek clarification of the comment, a direct response is warranted, and for such other needs as may be associated with the rule making or notice process.

DATES: Comments will be accepted on or before April 16, 2014. This proposed action will be effective the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/.

The proposed system report, as required by 5 U.S.C. 552a(r) of the Privacy Act of 1974, as amended, was submitted on March 10, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 11, 2014.
Aaron Siegel,
Alternate OSD Federal Register Liaison Officer, Department of Defense.

DWHS E01 DoD

System name:

DoD Federal Docket Management System (DoDFDMS) (November 25, 2011, 76 FR 72689).

Changes:

System name:

Delete entry and replace with “DoD Federal Docket Management System (DoD FDMS).”

System location:

Delete entry and replace with “Primary. U.S. Environmental Protection Agency, Research Triangle Park, Durham, NC 27711-0001.

Secondary locations:

Washington Headquarters Services, Executive Services Directorate, Information Management Division, 4800 Mark Center Drive, Alexandria, VA 22350-3100.

Washington Headquarters Services, Executive Services Directorate, Directive Division, 4800 Mark Center Drive, Alexandria, VA 22350-3100.

Defense Acquisition Regulation Systems, 241 18th Street, Suite 200A, Arlington, VA 22202-3409.

United States Army Corps of Engineers, 441 G Street, Northwest, 3G81, Washington, DC 20314-1000.

Records also may be located in a designated office of the DoD Component that is the proponent of the rule making or notice. The official mailing address for the Component can be obtained from the DoD FDMS system manager.”

* * * * *

Authority for maintenance of the system:

Delete entry and replace with “5 U.S.C. 553, Rule making; 10 U.S.C. 113, Secretary of Defense; 44 U.S.C. Chapter 3501, The Paperwork Reduction Act; and OSD Administrative Instruction 102, Office of the Secretary of Defense (OSD) Federal Register (FR) System.”

* * * * *

Routine uses of records maintained in the system, including categories of users and the purposes of such uses:

Delete entry and replace with “In addition to those disclosures generally permitted under 5 U.S.C. 552a(b) of the Privacy Act of 1974, as amended, the records contained herein may specifically be disclosed outside the DoD as a routine use pursuant to 552a(b)(3) as follows:

The DoD Blanket Routine Uses set forth at the beginning of the OSD's compilation of systems of records notices may apply to this system.”

* * * * *

System manager(s) and address:

Delete entry and replace with “Federal Docket Management System Office, Washington Headquarters Services, Executive Services Directorate, Information Management Division, 4800 Mark Center Drive, Alexandria, VA 22350-3100.”

Notification procedure:

Delete entry and replace with “Individuals seeking to determine whether this system of records contains information about themselves should address written inquiries to the Federal Docket Management System Office, Washington Headquarters Services, Executive Services Directorate, Information Management Division, 4800 Mark Center Drive, Alexandria, VA 22350-3100.

Requests should contain full name, address, and telephone number.

Note: FDMS permits an individual, as well as a member of the public, to search the public comments received by the name of the individual submitting the comment. Unless the individual submits the comment anonymously, a name search will result in the comment being displayed for view. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.”

Record access procedures:

Delete entry and replace with “Individuals seeking access to records about themselves contained in this system of records should address a written request to the Office of the Secretary of Defense/Joint Staff Freedom of Information Act Requester Service Center, 1150 Defense Pentagon, Washington, DC 20301-1150.

Signed, written requests should contain full name, address, and telephone number.

As appropriate, requests may be referred to the DoD Component responsible for the rule making or notice for processing.

Note: FDMS permits a member of the public to download any of the public comments received. If an individual has voluntarily furnished his or her name when submitting the comment, the individual, as well as the public, can view and download the comment by searching on the name of the individual. If the comment is submitted electronically using the FDMS system, the viewed comment will not include the name of the submitter or any other identifying information about the individual except that which the submitter has opted to include as part of his or her general comments. However, a comment submitted in writing that has been scanned and uploaded into the FDMS system will display the submitter's identifying information that has been included as part of the written correspondence.”

* * * * *

Record source categories:

Delete entry and replace with “Individual.”

Exemptions claimed for the system:

Delete entry and replace with “None.”

[FR Doc. 2014-05744 Filed 3-14-14; 8:45 am]

BILLING CODE 5001-06-P